DEPARTMENT OF TRANSPORTATION

Federal Aviation Administration

14 CFR Part 39

[Docket No. 2001-NE-17-AD; Amendment 39-13940; AD 2005-01-15]

RIN 2120-AA64

Airworthiness Directives; Rolls-Royce plc RB211 Trent 875, 877, 884, 884B, 892, 892B, and 895 Series Turbofan Engines

AGENCY: Federal Aviation Administration (FAA), DOT.

ACTION: Final rule; request for comments.

SUMMARY: The FAA is superseding an existing airworthiness directive (AD) for Rolls-Royce plc (RR) RB211 Trent 875, 877, 884, 892, 892B, and 895 series turbofan engines with certain part number (P/N) low pressure compressor (LPC) fan blades installed. That AD currently requires initial and repetitive ultrasonic inspections of the fan blade dovetail roots. This AD requires the same actions except at reduced compliance times for certain blades, defines a specific terminating action to the repetitive blade inspection requirements, and adds the 884B series to the applicability. This AD results from a report of a cracked fan blade found before the blade reached the initial inspection threshold of AD 2002-11-08. This AD also results from the need to reduce a repetitive inspection compliance time due to potential breakdown of blade coating and lubrication on certain blades. We are issuing this AD to prevent multiple LPC fan blade failures due to cracks, which could result in uncontained engine failure and possible damage to the airplane.

DATES: Effective January 28, 2005. The Director of the Federal Register approved the incorporation by reference of certain publications listed in the regulations as of January 28, 2005.

We must receive any comments on this AD by March 14, 2005.

ADDRESSES: Use one of the following addresses to submit comments on this AD:

• By mail: Federal Aviation Administration (FAA), New England Region, Office of the Regional Counsel, Attention: Rules Docket No. 2001-NE-17-AD, 12 New England Executive Park, Burlington, MA 01803-5299.

• By fax: (781) 238-7055.

• By e-mail: 9-ane-adcomment@faa.gov.

You can get the service information referenced in this AD from Rolls-Royce plc, P.O. Box 31, Derby DE24 6BJ, UK; telephone 44 (0) 1332 242424; fax 44 (0) 1332 249936.

You may examine the AD docket, by appointment, at the FAA, New England Region, Office of the Regional Counsel, 12 New England Executive Park, Burlington, MA.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: On May 27, 2002, the FAA issued AD 2002-11-08, Amendment 39-12769 (67 FR 38852, June 6, 2002). That AD requires initial and repetitive ultrasonic inspections of the fan blade dovetail roots. That AD was the result of the loss of an LPC fan blade during takeoff. That condition, if not corrected, could result in multiple LPC fan blade failures due to cracks, which could result in uncontained engine failure and possible damage to the airplane.

Actions Since AD 2002-11-08 Was Issued

Since that AD was issued, the Civil Aviation Authority (CAA), which is the airworthiness authority for the United Kingdom (UK), notified us that an unsafe condition may exist on RR RB211 Trent 875, 877, 884, 884B, 892, 892B, and 895 series turbofan engines. The CAA advises that a cracked fan blade was found before the blade reached the initial inspection threshold specified in AD 2002-11-08. The CAA also advises that potential breakdown of blade coating and lubrication on certain blades might occur, leading to blade cracking.

Relevant Service Information

We have reviewed and approved the technical contents of Rolls-Royce (RR) Alert Service Bulletin (ASB) No. RB.211-72-AD344, Revision 7, dated March 12, 2004, that provides procedures to ultrasonic-inspect the blade root on LPC fan blades. We have also reviewed and approved the technical contents of RR Service Bulletin (SB) No. RB.211-72-D672, dated February 1, 2002, that provides procedures to rework, relubricate, and remark the fan blades at fan blade overhaul, and lists part numbers for new fan blades that feature additional blade root processing requirements. The CAA classified these service bulletins as mandatory and issued AD G-2004-0008, dated April 29, 2004, in order to ensure the airworthiness of these RR engines in the UK.

Bilateral Airworthiness Agreement

These engine models are manufactured in the UK and are type certificated for operation in the United States under the provisions of § 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

FAA's Determination and Requirements of This AD

The unsafe condition described previously is likely to exist or develop on other RR RB211 Trent 875, 877, 884, 884B, 892, 892B, and 895 series turbofan engines of the same type design. We are issuing this AD to prevent multiple LPC fan blade failures due to cracks, which could result in uncontained engine failure and possible damage to the airplane. This AD:

• Requires initial and repetitive ultrasonic-inspections of the dovetail roots of LPC fan blades P/Ns FK30838, FK30840, FK30842, FW12960, FW12961, FW12962, and FW13175.

• Reduces the initial inspection threshold for fan blades, P/Ns FK30838, FK30840, and FK30842 in Table 1 for Airplane Maximum Gross Weight of 632,500 pounds and 648,000 pounds, from 2,400 cycles-since-new (CSN) to 1,200 CSN.

• Reduces the repetitive inspection threshold for fan blades, P/Ns FW12960, FW12961, FW12962, and FW13175 in Table 4 for Airplane Maximum Gross Weight of 545,000 pounds from 1,200 CSN to 600 CSN.

• Defines a terminating action to the repetitive blade inspection requirements in the AD, to be done at the next shop visit when fan blades are removed, but no later than December 31, 2009. The terminating action consists of replacing LPC fan blades with a complete set of reworked, relubricated, and remarked LPC fan blades, using Rolls-Royce SB No. RB.211-72-D672, dated February 1, 2002, or with a complete set of new LPC fan blades that feature additional blade root processing requirements.

• Adds the 884B series engine to the applicability.

You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to submit any written relevant data, views, or arguments regarding this AD. Send your comments to an address listed under ADDRESSES. Include “AD Docket No. 2001-NE-17-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us verbally, and that contact relates to a substantive part of this AD, we will summarize the contact and place the summary in the docket. We will consider all comments received by the closing date and may amend the AD in light of those comments.

We are reviewing the writing style we currently use in regulatory documents. We are interested in your comments on whether the style of this document is clear, and your suggestions to improve the clarity of our communications with you. You may get more information about plain language at http://www.faa.gov/language and http://www.plainlanguage.gov.

Examining the AD Docket

You may examine the AD Docket (including any comments and service information), by appointment, between 8 a.m. and 4:30 p.m., Monday through Friday, except Federal holidays. See ADDRESSES for the location.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2001-NE-17-AD” in your request.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing Amendment 39-12769 (67 FR 38852; June 6, 2002), and by adding a new airworthiness directive (AD), Amendment 39-13940, to read as follows:

2005-01-15 Rolls-Royce plc: Amendment 39-13940. Docket No. 2001-NE-17-AD. Supersedes AD 2002-11-08, Amendment 39-12769.

Effective Date

(a) This AD becomes effective January 28, 2005.

Affected ADs

(b) This AD supersedes AD 2002-11-08, Amendment 39-12769.

Applicability

(c) This AD applies to Rolls-Royce plc (RR) RB211 Trent 875, 877, 884, 884B, 892, 892B, and 895 series turbofan engines with low pressure compressor (LPC) fan blades, part numbers (P/Ns) FK30838, FK30840, FK30842, FW12960, FW12961, FW12962, and FW13175, installed. These engines are installed on, but not limited to, Boeing Company 777 series airplanes.

Unsafe Condition

(d) This AD results from a report of a cracked fan blade found before the blade reached the initial inspection threshold of AD 2002-11-08. This AD also results from the need to reduce a repetitive inspection compliance time due to potential breakdown of blade coating and lubrication on certain blades. We are issuing this AD to prevent multiple LPC fan blade failures due to cracks, which could result in uncontained engine failure and possible damage to the airplane.

Compliance

(e) You are responsible for having the actions required by this AD performed within the compliance times specified unless the actions have already been done.

(f) Ultrasonic-inspect and disposition the dovetail roots of LPC fan blades, P/Ns FK30838, FK30840, FK30842, FW12960, FW12961, FW12962, and FW13175, that are removed from the engine, using 3.A.(1) through 3.A.(5) or, for blades that are not removed from the engine, using 3.B.(1) through 3.B.(5) of the Accomplishment Instructions of RR Alert Service Bulletin (ASB) No. RB.211-72-AD344, Revision 7, dated March 12, 2004, as follows:

(1) For blades P/Ns FK30838, FK30840, and FK30842, that have not been relubricated during any interval exceeding 600 cycles-since-new (CSN) or cycles-since-rework (CSR) using either RR ASB No. RB.211-72-AD344 or No. RB.211-72-D347, inspect as specified in paragraph (f) of this AD and within the compliance times specified in the following Table 1:

Table 1.—Compliance Times for Blades P/Ns FK30838, FK30840, and FK30842
Engine series | Boeing 777 series | Airplane maximum gross weight (times 1,000 pounds) | Initial inspection CSN | Repetitive inspection (cycles-since-last-inspection) (CSLI)
(i) -884B,-892 | -300 | (A) 660 and 632.5 (B) 580 | 600 2,000 | 80 600
(ii) -884, -892, -892B, and -895 | -200 | (A) 632.5 and 648 (B) 656 (C) 555 | 1,200 600 2,000 | 100 80 600
(iii) -875 | -200 | 535 | 2,000 | 600
(iv) -877 | -200 | 545 | 2,000 | 600

(2) For blades P/Ns FK30838, FK30840, and FK30842, that have been relubricated at intervals not exceeding 600 CSN or CSR using either RR ASB No. RB.211-72-AD344 or SB RB.211-72-D347, inspect as specified in paragraph (f) of this AD and within the compliance times specified in the following Table 2:

Table 2.—Compliance Times for Blades P/Ns FK30838, FK30840, and FK30842
Engine series | Boeing 777 series | Airplane maximum gross weight (times 1,000 pounds) | Initial inspection CSN | Repetitive inspection CSLI
(i) -884B, 892 | -300 | (A) 660 and 632.5 (B) 580 | 600 2,400 | 80 600
(ii) 884, -892, -892B, and -895 | -200 | (A) 632.5 and 648 (B) 656 (C) 555 | 1,200 600 2,400 | 100 80 600
(iii) -875; | -200 | 535 | 2,400 | 600
(iv) -877 | -200 | 545 | 2,400 | 600

(3) For blades P/Ns FW12960, FW12961, FW12962, and FW13175, either new or reworked to that configuration at greater than 600 CSN or since previous rework, or that have not been relubricated during any interval exceeding 600 CSN or CSR using either RR ASB No. RB.211-72-AD344 or RB.211-72-D347 requirements, inspect as specified in paragraph (f) of this AD and within the compliance times specified in the following Table 3:

Table 3.—Compliance Times for Blades P/Ns FW12960, FW12961, FW12962, and FW13175
Engine series | Boeing 777 series | Airplane maximum gross weight (times 1,000 pounds) | Initial inspection CSN | Repetitive inspection CSLI
(i) -884B, -892 | -300 | (A) 660 and 632.5 (B) 580 | 600 2,000 | 100 600
(ii) -884, -892, -892B, and -895 | -200 | (A) 632.5 and 648 (B) 656 (C) 555 | 1,200 600 2,000 | 125 100 600
(iii) -875 | -200 | 535 | 2,000 | 600
(iv) -877 | -200 | 545 | 2,000 | 600

(4) For blades P/Ns FW12960, FW12961, FW12962, and FW13175, either new or reworked to that configuration at fewer than 600 CSN or since previous rework, and that have been relubricated at intervals not exceeding 600 CSN using either RR ASB No. RB.211-72-AD344 or SB No. RB.211-72-D347, inspect as specified in paragraph (f) of this AD and within the compliance times specified in the following Table 4:

Table 4.—Compliance Times for Blades P/Ns FW12960, FW12961, FW12962, and FW13175
Engine series | Boeing 777 series | Airplane maximum gross weight (times 1,000 pounds) | Initial inspection CSN | Repetitive inspection CSLI
(i) -884B, -892 | -300 | (A) 660 and 632.5 (B) 580 | 600 2,400 | 100 1,200
(ii) -884, -892, -892B, and -895 | -200 | (A) 632.5 and 648 (B) 656 (C) 535 | 2,400 600 2,400 | 125 100 1,200
(iii) -875 | -200 | 535 | 2,400 | 1,200
(iv) -877 | -200 | 545 | 2,400 | 600

(g) When engines containing blades P/Ns FK30838, FK30840, FK30842, FW12960, FW12961, FW12962, and FW13175 are moved from one gross weight category to another, the inspection schedule that is applicable to the higher gross weight category must be used.

Terminating Action

(h) As terminating action to the repetitive inspection requirements of this AD, at the next shop visit when the fan blades are removed for repair or overhaul, but no later than December 31, 2009:

(1) Replace LPC fan blades P/Ns FK30838, FK30840, FK30842, FW12960, FW12961, FW12962, or FW13175 with a complete set of LPC fan blades that have been reworked, relubricated, and remarked using RR SB No. RB.211-72-D672, dated February 1, 2002; or;

(2) Replace LPC fan blades P/Ns FK30838, FK30840, FK30842, FW12960, FW12961, FW12962, or FW13175 with a complete set of new LPC fan blades that feature additional blade root processing requirements found in RR SB No. RB.211-72-D672, dated February 1, 2002.

Previous Credit

(i) Previous credit is allowed for initial inspections of fan blades that were done using RR ASB No. RB.211-72-AD344, Revision 4, dated March 15, 2002, Revision 5, dated June 20, 2003, Revision 6, dated February 27, 2004, or Revision 7, dated March 12, 2004, before the effective date of this AD.

Alternative Methods of Compliance

(j) The Manager, Engine Certification Office, has the authority to approve alternative methods of compliance for this AD if requested using the procedures found in 14 CFR 39.19.

Material Incorporated by Reference

(k) You must use the Rolls-Royce plc service information specified in Table 5 of this AD to perform the blade inspections and replacements required by this AD. The Director of the Federal Register approved the incorporation by reference of the documents listed in Table 5 of this AD in accordance with 5 U.S.C. 552(a) and 1 CFR part 51. You can get a copy from Rolls-Royce plc, P.O. Box 31, Derby DE24 6BJ, UK; telephone 44 (0) 1332 242424; fax 44 (0) 1332 249936. You may review copies at the FAA, New England Region, Office of the Regional Counsel, Attention: Rules Docket No. 2001-NE-17-AD, 12 New England Executive Park, Burlington, MA; or at the National Archives and Records Administration (NARA). For information on the availability of this material at NARA, call 202-741-6030, or go to: http://www.archives.gov/federal_register/code_of_federal_regulations/ibr_locations.html. Table 5 follows:

Table 5.—Incorporation by Reference
Service Bulletin No. | Page | Revision | Date
RB.211-72-AD344 | ALL | 7 | March 12, 2004.
Total Pages: 11
RB.211-72-AD344, Appendices 1 through 5 | ALL | 7 | March 12, 2004.
Total Pages: 18
RB.211-72-D672 | ALL | Original | February 1, 2002.
Total Pages: 24

Related Information

(l) Civil Aviation Authority (CAA) airworthiness directive G-2004-0008, dated April 29, 2004, also addresses the subject of this AD.

Issued in Burlington, Massachusetts, on January 3, 2005.
Francis A. Favara,
Acting Manager, Engine and Propeller Directorate, Aircraft Certification Service.

[FR Doc. 05-485 Filed 1-12-05; 8:45 am]

BILLING CODE 4910-13-P